DEPARTMENT OF LABOR

Proposed Information Collection Request (ICR) for the Voice in the Workplace Survey; Comment Request

AGENCY: Office of the Assistant Secretary for Policy, Labor.

ACTION: Notice.

SUMMARY: The Department of Labor (DOL or the Department), as part of its continuing effort to reduce paperwork and respondent burden, conducts a preclearance consultation program to provide the general public and Federal agencies with an opportunity to comment on proposed and/or continuing collections of information in accordance with the Paperwork Reduction Act of 1995 (PRA) (44 U.S.C. 3506(c)(2)(A)). This program helps to ensure that required data can be provided in the desired format, reporting burden (time and financial resources) is minimized, collection instruments are clearly understood, and the impact of collection requirements on respondents can be properly assessed. The Department notes that a Federal agency cannot conduct or sponsor a collection of information unless it is approved by the Office of Management and Budget (OMB) under the PRA and the related materials display a currently valid OMB control number. Also, notwithstanding any other provisions of law, no person shall be subject to penalty for failing to comply with a collection of information if the related materials do not display a currently valid OMB control number. See 5 CFR 1320.5(a) and 1320.6. A copy of the proposed ICR can be obtained by contacting the office listed below in the addresses section of this notice or by accessing http://www.doleta.gov/OMBCN/OMBControlNumber.cfm.

DATES: Written comments must be received by the office listed in the addresses section below on or before February 10, 2012.

ADDRESSES: Send comments to Celeste Richie, U.S. Department of Labor, Chief Evaluation Office, Office of the Assistant Secretary for Policy, 200 Constitution Avenue NW., Frances Perkins Bldg., Room S-2312, Washington, DC 20210, telephone number (202) 693-5959 (this is not a toll-free number). Email address is richie.celeste.j@dol.gov and fax number is (202) 693-5960.

SUPPLEMENTARY INFORMATION: 1. Background: The purpose of this evaluation is to gauge the current level of workers' voice in the workplace and the factors affecting voice, specifically voice as it relates to the laws administered and enforced by the Department of Labor's Occupational Safety and Health Administration (OSHA) and Wage and Hour Division (WHD). Voice in the workplace is a key outcome goal for the Secretary of Labor and part of her vision of good jobs for everyone. DOL's working definition of voice in the workplace is the “worker's ability to access information on their rights in the workplace, their understanding of those rights, and their ability to exercise those rights without fear of recrimination.” The survey will measure each of these items, first individually, and then combine those to come up with an overall measure of voice. The Department also hopes to learn how voice is related to workers' perceptions of employer noncompliance, such as whether or not particular dimensions of voice correlate to workers' perceptions of noncompliance. The study will also be useful in examining how noncompliance in one area, such as safety, is related to voice in the workplace and noncompliance in another area, such as wages.

The evaluation of voice will benefit the Department of Labor (DOL) in several important ways:

• It will establish a baseline level of voice to which future measurement could be compared.

• The study should provide the Department with information about what factors affect voice and how voice can be promoted in the workplace. In particular, the analysis of survey results should identify which aspects of voice are particularly sensitive or linked to actions the Department may conduct to increase workers' knowledge of their rights.

• The relationship between worker voice and worker outcomes, such as perceived workplace safety, fair compensation, and employer noncompliance (or perceived noncompliance) will also be explored.

• It may also provide information about types of workplaces where workers believe OSHA and WHD violations are more prevalent, which will be useful for targeting the Department's limited enforcement resources.

Because this evaluation will collect new and unique data, the contractor is engaged in a rigorous process to develop the survey questions.

1. A comprehensive one-on-one qualitative review was undertaken with 25 stakeholders provided by OSHA and WHD, in order to understand concerns of DOL's constituency groups (see Attachment A—Stakeholder Interviewer Guide). Stakeholders came from both Federal and third-party nonprofit agencies. A report was prepared from these interviews and suggestions from the report were incorporated into the survey instrument.¹

¹ Gallup, Inc. Stakeholder Interview Report: Department of Labor Voice in the Workplace. Washington, DC: 2011.

2. The contractor conducted a thorough review of the literature that examined existing research and surveys related to the traditional concept of worker voice as well as the concept of voice as defined for this study. The literature review resulted in a comprehensive bibliography of research articles, reports, and studies that are relevant to this effort.² Through the literature review, similar survey instruments on the concept of voice were identified and a few applicable questions incorporated into DOL's survey instrument. However, it was also discovered in the course of the literature review that DOL's undertaking is unique to the voice literature as its mandate focuses on compliance-related issues. As such, it is expected that this research will be groundbreaking in the voice (as defined for this study) literature and may lead to follow-on research articles.

² Gallup, Inc. Worker Voice Literature Review. Washington, DC: 2011.

3. A pilot survey will be undertaken so that the instrument and sampling design will be tested thoroughly to ensure the instrument is performing according to DOL needs. Upon completion of the pilot, a report will be written so that final results will be clearly outlined.

Using results from the first two tasks, the contractor developed a modularized survey questionnaire that is approximately 18 minutes in length. The questionnaire begins with a core set of questions about the DOL voice definition. These questions will be the crux of the voice survey and will provide DOL with an index for each respondent or a voice “score.” This score will be applicable across agencies and is expected to be used in other research being undertaken with the Department. The second part of the instrument is two rotating modules, one each for OSHA and for WHD, in which specific questions can be directed to respondents about each agency. Each respondent will be directed to just one module (i.e., no respondent will get both the OSHA and the WHD modules). Each module will focus on knowledge, voice, and perceived noncompliance for the given agency, providing a second gauge of a voice measure—one that has more granularities around the topics. For example, knowledge of specific laws will be tested for each agency as well as more detail on noncompliance. A final section will query how worker rights are being communicated. In the knowledge section, respondents will be asked about worker rights (corresponding to agency specifics) and a knowledge score will be derived to assess a knowledge index score for each respondent. This knowledge index will then play into a second overall actual voice score that is calculated for each respondent. The survey will be conducted in both Spanish and English, and will be administered only to people who, according to the CPS, say they are currently employed.

2. Desired Focus of Comments: Currently, the Department of Labor is soliciting comments concerning the above data collection. Comments are requested that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

3. Current Actions: Pursuant to the PRA implementing regulations at 5 CFR 1320.8(d)(1), this notice requests comments on the proposed information collection request discussed above in the Background section of this notice. Interested parties are encouraged to provide comments to the individual list in the ADDRESSES section above.

Agency: Office of the Assistant Secretary for Policy.

Type of Review: New Collection

Title of Collection: Voice in the Workplace Survey.

OMB Control Number: [Insert OMB Control Number].

Affected Public: Individuals or households.

Two survey undertakings will be completed, the first being the pilot with 800 respondents and the second being the full study with 4,000 respondents.

Type of respondent | Form name | Number of respondents | Number of responses per respondent | Average burden per response (in hours) | Total burden hours
General Working Population | Pilot Voice Study | 800 | 1 | 18/60 | 240
General Working Population | Full Voice Study | 4,000 | 1 | 18/60 | 1,200

Comments submitted in response to this request will be summarized and/or included in the request for OMB approval; they will also become a matter of public record.

Signed: at Washington, DC, this 6th day of December, 2011.
William E. Spriggs,
Assistant Secretary, Office of the Assistant Secretary for Policy.

[FR Doc. 2011-31821 Filed 12-9-11; 8:45 am]

BILLING CODE 4510-22-P